DEPARTMENT OF HOMELAND SECURITY

Coast Guard

33 CFR Part 117

[Docket No. USCG-2013-0157]

Drawbridge Operation Regulations; Inner Harbor Navigation Canal, LA

AGENCY: Coast Guard, DHS.

ACTION: Notice of deviation from drawbridge regulation.

SUMMARY: The Coast Guard has issued a temporary deviation from the regulation governing the operation of the US 90 (Danzinger) vertical lift span drawbridge across the Inner Harbor Navigation Canal, mile 3.10 at New Orleans, Orleans Parish, Louisiana. The deviation is necessary to install monitoring devices on the gearbox that operates the bridge. This deviation allows the bridge to remain closed to navigation for 24 hours.

DATES: This deviation is effective from 6 a.m. on, April 6, 2013, until 6 a.m. on, April 7, 2013.

ADDRESSES: The docket for this deviation, [USCG-2013-0157] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Kay Wade, Bridge Branch Office, Coast Guard; telephone 504-671-2128, email Kay.B.Wade@uscg.mil. If you have questions on viewing the docket, call Barbara Hairston, Program Manager, Docket Operations, telephone 202-366-9826.

SUPPLEMENTARY INFORMATION: The Louisiana Department of Transportation and Development has requested a temporary deviation from the operating schedule for the Vertical Lift Span Bridge across the Inner Harbor Navigation Canal, mile 3.10 at New Orleans, Orleans Parish, Louisiana. The bridge has a vertical clearance of 50 feet above mean high water, elevation 5.0 feet Mean Sea Level in the closed-to-navigation position. Vessels requiring a clearance of less than 50 feet may transit beneath the bridge during operations.

In accordance with 33 CFR 117.458(b), the bridge currently opens on signal for the passage of vessels; except that, from 8 p.m. to 7 a.m. the draw shall open on signal if at least four hours notice is given, and the draw need not be opened from 7 a.m. to 8:30 a.m. and from 5 p.m. to 6:30 p.m. Monday through Friday. This deviation allows the bridge to remain closed to navigation from 6 a.m. on Saturday, April 6, 2013, until 6 a.m. on Sunday, April 7, 2013. At all other times, the bridge will open on signal for the passage of vessels in accordance with 33 CFR 117.458(b).

The closure is necessary in order to install strain gauges and monitoring devices on the bridge's gearbox and associated shafting to get readings. This work is essential for the continued operation of the bridge. Notices will be published in the Eighth Coast Guard District Local Notice to Mariners and will be broadcast via the Coast Guard Broadcast Notice to Mariners System.

Navigation on the waterway consists of small tugs with and without tows, commercial vessels, and recreational craft, including sailboats. Coordination between the Coast Guard and the waterway users determined that there should not be any significant effects on these vessels. The bridge will be unable to open during these repairs; however, an alternate route is available via the Rigolets or Chef Menteur Pass.

In accordance with 33 CFR 117.35(e), the drawbridge must return to its regular operating schedule immediately at the end of the designated time period. This deviation from the operating regulations is authorized under 33 CFR 117.35.

Dated: March 14, 2013.
David M. Frank,
Bridge Administrator.

[FR Doc. 2013-07084 Filed 3-26-13; 8:45 am]

BILLING CODE 9110-04-P